DEPARTMENT OF COMMERCE

National Oceanic and Atmospheric Administration

RIN 0648-XV93

Notice of Intent To Prepare an Environmental Assessment and to Conduct San Joaquin River Chinook Salmon Scoping Meeting

AGENCY: National Marine Fisheries Service (NMFS), National Oceanic and Atmospheric Administration (NOAA), Commerce.

ACTION: Notice of Intent; scoping meeting.

SUMMARY: NMFS announces its intent to prepare an Environmental Assessment (EA) to analyze the potential impacts of the proposed reintroduction of spring-run Chinook salmon to the mainstem of the San Joaquin River.

DATES: NMFS will conduct a public scoping meeting in order to provide information and solicit comments for the preparation of the EA. The meeting will be held on April 28, 2010, from 5 p.m. to 7 p.m., Pacific Time, at the Department of Water Resource, South Central Office, 3374 East Shields Avenue, Fresno, CA 93726. Written comments must be postmarked by June 21, 2010.

ADDRESSES: Comments related to the preparation of the EA should be sent to National Marine Fisheries Service, Attn: Elif Fehm-Sullivan, 650 Capitol Mall, Suite 8-300, Sacramento, CA 95814. Comments may also be submitted electronically to SJRSpringSalmon@nooa.gov. Comments and materials received will be available for public inspection, by appointment, during normal business hours at the above address.

FOR FURTHER INFORMATION CONTACT: Elif Fehm-Sullivan, telephone 916 930 3723.

SUPPLEMENTARY INFORMATION:

Proposed Action

The proposed action is to reintroduce spring-run Chinook salmon into the mainstem of the San Joaquin River which will include collection of founding stock, propagation, and release under authorities of section 10(j) of the Endangered Species Act (ESA), Natural Resource Defense Council, et al. v. Rodgers et. al. (Settlement), the Omnibus Public Land Management Act of 2009 Public Law 111-11, Title X. (Restoration Act), and section 10(a)(1)(A) of the ESA. This proposed reintroduction includes designating an experimental population for spring-run Chinook salmon within the San Joaquin River from below the confluence with the Stanislaus River to Friant Dam. The proposed action will include promulgation of a 4(d) rule.

Geographic Scope

The proposed planning area for the proposed reintroduction will consist of the aquatic ecosystems and natural communities, and potentially adjacent riparian and floodplain natural communities, within and along the San Joaquin River and from the confluence of the Stanislaus River (approximately 3 miles northeast of Vernalis, California) upstream to Friant Dam and it's associated tributaries including; the Stanislaus River below Goodwin Dam, the Tuolumne River below La Grange Dam, and the Merced River below Crocker-Huffman Dam.

Covered Species

The species that is intended to be the initial focus of the reintroduction is the spring-run Central Valley Chinook salmon (Oncorhynchus tshawytscha).

Request for Comments

The primary purpose of the scoping process is to identify important issues raised by the public related to the issuance of an ESA 10(j) rule and promulgation of an ESA 4(d) rule associated with the reintroduction of spring-run Chinook salmon to the San Joaquin River. Written comments from interested parties are invited to ensure that the full range of issues related to the proposed development of the 4(d) rule and the proposed reintroduction. All comments received, including names and addresses, will become part of the official administrative record and may be made available to the public. Information regarding this proposed action is available in alternative formats upon request.

Reasonable Accommodations

Persons needing reasonable accommodation to attend and participate should contact Elif Fehman-Sullivan (see FOR FURTHER CONTACT INFORMATION). To allow sufficient time to process requests, please call no later than five days prior to attending the meeting.

Dated: April 15, 2010.
Angela Somma,
Chief, Endangered Species Division, Office of Protected Resources, National Marine Fisheries Service.

[FR Doc. 2010-9188 Filed 4-20-10; 8:45 am]

BILLING CODE 3510-22-S